ENVIRONMENTAL PROTECTION AGENCY

40 CFR Part 272

[EPA-R06-RCRA-2022-0756; FRL-12557-02-R6]

Arkansas: Incorporation by Reference of Approved State Hazardous Waste Management Program

AGENCY: Environmental Protection Agency (EPA).

ACTION: Final rule.

SUMMARY: This rule codifies in the regulations the prior approval of Arkansas' hazardous waste management program and incorporates by reference authorized provisions of the State's statutes and regulations. The Environmental Protection Agency (EPA) uses the regulations entitled “Approved State Hazardous Waste Management Programs” to provide notice of the authorization status of State programs and to incorporate by reference those provisions of the State statutes and regulations that are authorized, and that EPA will enforce under the Solid Waste Disposal Act, commonly referred to as the Resource Conservation and Recovery Act (RCRA). The EPA previously provided notices and opportunity for comments on the Agency's decisions to authorize the State of Arkansas program and the EPA is not now reopening the decisions, nor requesting comments, on the Arkansas authorizations as previously published in the Federal Register documents specified in section I.C of this final rule document.

DATES: This rule is effective December 18, 2025. The Director of the Federal Register approved this incorporation by reference as of December 18, 2025.

ADDRESSES: The EPA has established a docket for this action under Docket ID No. EPA-R06-RCRA-2022-0756. All documents in the docket are listed in the www.regulations.gov index. Although listed in the index, some of the information is not publicly available. e.g., Confidential Business Information or other information whose disclosure is restricted by statute. Certain other material, such as copyrighted material, will be publicly available only in hard copy. Publicly available docket materials are available electronically through www.regulations.gov. For alternative access to docket materials, please contact the person identified in the FOR FURTHER INFORMATION CONTACT section.

FOR FURTHER INFORMATION CONTACT: Alima Patterson, EPA Region 6 Regional Authorization/Codification Coordinator, RCRA Permit Section (LCR-RP), Land, Chemicals and Redevelopment Division, EPA Region 6, 1201 Elm Street, Suite 500, Dallas, Texas 75270, phone number: (214) 665-8533, or 214-235-7070 email address: patterson.alima@epa.gov. The EPA Region 6 office is open from 8:30 a.m. to 4:00 p.m., Monday through Friday, excluding Federal holidays.

SUPPLEMENTARY INFORMATION:

I. Incorporation by Reference

A. What is codification?

Codification is the process of placing a State's statutes and regulations that comprise the State's authorized hazardous waste management program into the Code of Federal Regulations (CFR). Section 3006(b) of RCRA, as amended, allows the EPA to authorize State hazardous waste management programs to operate in lieu of the Federal hazardous waste management regulatory program. The EPA codifies its authorization of State programs in 40 CFR part 272 and incorporates by reference State statutes and regulations that the EPA will enforce under sections 3007 and 3008 of RCRA and any other applicable statutory provisions.

The incorporation by reference of State authorized programs in the CFR should substantially enhance the public's ability to discern the current status of the authorized State program and State requirements that can be Federally enforced. This effort provides clear notice to the public of the scope of the authorized program in each State.

B. Why wasn't there a proposed rule before this rule?

The EPA is publishing this rule to codify Arkansas' authorized hazardous waste management program without a prior proposal because we believe this action is not controversial. The reason being that, in accordance with section 3006(b) of RCRA, EPA has already evaluated the State's regulatory and statutory requirements and has determined that the State's program meets the statutory and regulatory requirements established by RCRA. The EPA previously provided notices and opportunity for comments on the Agency's decisions to authorize the Arkansas program. The EPA is not now reopening the decisions, nor requesting new comments, on the Arkansas authorizations as previously published in the Federal Register documents specified in section I.C of this preamble. The previous authorizations form the basis for the codification addressed in this final rule.

C. What is the history of the authorization and codification of Arkansas' hazardous waste management program?

The State of Arkansas initially received final authorization on January 11, 1985, effective January 25, 1985 (50 FR 1513), to implement its Base Hazardous Waste Management Program. We granted authorization for changes to their program on August 23, 1985, via EPA letter, effective August 23, 1985; March 27, 1990 (55 FR 11192), effective May 29, 1990; September 18, 1991 (56 FR 47153), effective November 18, 1991; October 5, 1992 (57 FR 45721), effective December 4, 1992; October 12, 1993 (58 FR 52674), effective December 13, 1993; October 7, 1994 (59 FR 51115), effective December 21, 1994; June 20, 1995 (60 FR 32112), effective August 21, 1995; April 24, 2002 (67 FR 20038), effective June 24, 2002, as amended June 28, 2010 (75 FR 36538); August 15, 2007 (72 FR 45663), effective October 15, 2007, as amended June 28, 2010 (75 FR 36538); June 28, 2010 (75 FR 36538), effective August 27, 2010; August 10, 2012 (77 FR 47779), effective October 9, 2012; October 2, 2014 (79 FR 59438), effective December 1, 2014; October 31, 2014 (79 FR 64678), effective December 30, 2014; January 29, 2016 (81 FR 4961), effective March 29, 2016; August 11, 2016. (81 FR 53025), effective October 11, 2016; September 14, 2017 (82 FR 43185), effective November 13, 2017; and November 23, 2021 (86 FR 66460); effective November 23, 2021.

The EPA incorporated by reference Arkansas' then authorized hazardous waste program effective December 13, 1993 (58 FR 52674), August 21, 1995 (60 FR 32112), August 27, 2010 (75 FR 36538), December 1, 2014 (79 FR 59438), March 29, 2016 (81 FR 4961) and November 13, 2017 (82 FR 43185). In this document, the EPA is revising 40 CFR part 272, subpart E to include the authorization revision actions effective November 23, 2021 (86 FR 66460).

D. What codification decisions have we made in this rule?

In this rule, the EPA is finalizing regulatory text that includes incorporation by reference. In accordance with requirements of 1 CFR 51.5, the EPA is finalizing the incorporation by reference of “EPA-Approved Arkansas Statutory and Regulatory Requirements Applicable to the Hazardous Waste Management Program,” dated November 2021, which includes authorized revisions to the hazardous waste management program of the State of Arkansas, effective as of November 23, 2021, and set forth below in the amendments to 40 CFR 272.201. The EPA has made, and will continue to make, this document available electronically through www.regulations.gov and in hard copy at the appropriate EPA office (see the ADDRESSES section of this preamble for more information).

The purpose of this Federal Register document is to codify the EPA's authorization of Arkansas' base hazardous waste management program and the State's revisions to that program. The document incorporates by reference “EPA-Approved Arkansas Statutory and Regulatory Requirements Applicable to the Hazardous Waste Management Program,” dated November 2021, and clarifies which of these provisions are included in the authorized and Federally enforceable program. By codifying Arkansas' authorized program and by amending the CFR, the public will be more easily able to discern the status of Federally-approved requirements of the Arkansas hazardous waste management program.

The EPA is incorporating by reference the Arkansas authorized hazardous waste program in 40 CFR part 272, subpart E. Section 272.201(c)(1) incorporates by reference “EPA-Approved Arkansas Statutory and Regulatory Requirements Applicable to the Hazardous Waste Management Program,” dated November 2021. Section 272.201 also references material which is not being incorporated by reference, but which the EPA considered in determining the adequacy of Arkansas' program. Section 272.201(c)(2) references sections of the Arkansas statutes and regulations which provide the legal basis for the State's implementation of the hazardous waste management program. In addition, 40 CFR 272.201(c)(4) through (6) reference the Memorandum of Agreement, the Attorney General's Statements, and the Program Description, respectively. These documents are evaluated as part of the approval process of the hazardous waste management program in accordance with subtitle C of RCRA but are not part of the material to be incorporated by reference.

State provisions that are “broader in scope” than the Federal program are not incorporated by reference in 40 CFR part 272. For reference and clarity, the EPA lists in 40 CFR 272.201(c)(3) the Arkansas statutory and regulatory provisions that are “broader in scope” than the Federal program, and which are not part of the authorized program being incorporated by reference. While “broader in scope” provisions are not part of the authorized program and cannot be enforced by the EPA, the State may enforce such provisions under State law.

E. What is the effect of Arkansas' codification on enforcement?

The EPA retains its authority under statutory provisions, including but not limited to, RCRA sections 3007, 3008, 3013, and 7003, and other applicable statutory and regulatory provisions to undertake inspections and enforcement actions and to issue orders in authorized States. With respect to these actions, the EPA will rely on Federal sanctions, Federal inspection authorities, and Federal procedures rather than any authorized State analogs to these provisions. Therefore, the EPA is not incorporating by reference such particular, approved Arkansas procedural and enforcement authorities. Section 272.201(c)(2) lists the statutory and regulatory provisions which provide the legal basis for the State's implementation of the hazardous waste management program, as well as those procedural and enforcement authorities that are part of the State's approved program, but these are not incorporated by reference.

F. What State provisions are not part of the codification?

The public needs to be aware that some provisions of Arkansas' hazardous waste management program are not part of the Federally authorized State program. These non-authorized provisions include:

(1) Provisions that are not part of the RCRA subtitle C program because they are “broader in scope” than RCRA subtitle C (see 40 CFR 271.1(i));

(2) Federal rules or provisions for which Arkansas is not authorized because they are not delegable to States; and

(3) Unauthorized State requirements.

State provisions that are “broader in scope” than the Federal program are not part of the RCRA authorized program, and the EPA will not enforce them. Therefore, they are not incorporated by reference in 40 CFR part 272. For reference and clarity, 40 CFR 272.201(c)(3) lists the Arkansas regulatory provisions which are “broader in scope” than the Federal program and which are not part of the authorized program being incorporated by reference. “Broader in scope” provisions cannot be enforced by the EPA; the State, however, may enforce such provisions under State law.

Additionally, Arkansas' hazardous waste regulations include provisions that contain purely Federal functions for which States cannot receive authorization from EPA. The non-delegable Federal program areas include import/export requirements reserved as part of the Federal foreign relations function, certain land disposal restriction considerations that require examination of national concerns, and manifest registry and electronic manifest functions administered solely by the EPA. Arkansas has appropriately adopted these provisions by leaving the authority with the EPA for implementation and enforcement.

State regulations that are not incorporated by reference in this rule at 40 CFR 272.201(c)(1), or that are not listed in 40 CFR 272.201(c)(2) (“legal basis for the State's implementation of the hazardous waste management program”) or 40 CFR 272.201(c)(3) (“broader in scope”), are considered unauthorized State requirements. These requirements are not Federally enforceable.

With respect to any requirement pursuant to the Hazardous and Solid Waste Amendments of 1984 (HSWA) for which the State has not yet been authorized, the EPA will continue to enforce the Federal HSWA standards until the State is authorized for these provisions.

G. What will be the effect of Federal HSWA requirements on the codification?

The EPA is not amending 40 CFR part 272 to include HSWA requirements and prohibitions that are implemented by the EPA. Section 3006(g) of RCRA provides that any HSWA requirement or prohibition (including implementing regulations) takes effect in authorized and not authorized States at the same time. A HSWA requirement or prohibition supersedes any less stringent or inconsistent State provision which may have been previously authorized by the EPA (50 FR 28702, July 15, 1985). The EPA has the authority to implement HSWA requirements in all States, including authorized States, until the States become authorized for such requirement or prohibition. Authorized States are required to revise their programs to adopt the HSWA requirements and prohibitions, and then to seek authorization for those revisions pursuant to 40 CFR part 271.

Instead of amending the 40 CFR part 272 every time a new HSWA provision takes effect under the authority of RCRA section 3006(g), the EPA will wait until the State receives authorization for its analog to the new HSWA provision before amending the State's 40 CFR part 272 incorporation by reference. Until then, persons wanting to know whether a HSWA requirement or prohibition is in effect should refer to 40 CFR 271.1(j), as amended, which lists each such provision.

Some existing State requirements may be similar to the HSWA requirement implemented by the EPA. However, until the EPA authorizes those State requirements, the EPA can only enforce the HSWA requirements and not the State analogs. The EPA will not codify those State requirements until the State receives authorization for those requirements.

II. Statutory and Executive Order Reviews

The Office of Management and Budget (OMB) has exempted this action from the requirements of Executive Orders 12866 (58 FR 51735, October 4, 1993) and 13563 (76 FR 3821, January 21, 2011). This action incorporates by reference Arkansas' authorized hazardous waste management regulations and imposes no additional requirements beyond those imposed by State law. Therefore, this action is not subject to review by OMB. This action is not an Executive Order 14192 (90 FR 9065, February 6, 2025) regulatory action because actions such as this codification of Arkansas' revised hazardous waste program under RCRA are exempted under Executive Order 12866. Accordingly, I certify that this action will not have a significant economic impact on a substantial number of small entities under the Regulatory Flexibility Act (5 U.S.C. 601 et seq.). Because this action incorporates by reference pre-existing requirements under State law and does not impose any additional enforceable duty beyond that required by State law, it does not contain any unfunded mandate or significantly or uniquely affect small governments, as described in the Unfunded Mandates Reform Act of 1995 (2 U.S.C. 1531-1538). For the same reason, this action also does not significantly or uniquely affect the communities of tribal governments, as specified by Executive Order 13175 (65 FR 67249, November 9, 2000).

This action will not have substantial direct effects on the States, on the relationship between the national government and the States, or on the distribution of power and responsibilities among the various levels of government, as specified in Executive Order 13132 (64 FR 43255, August 10, 1999), because it merely incorporates by reference existing State requirements as part of the State RCRA hazardous waste management program without altering the relationship or the distribution of power and responsibilities established by RCRA.

This action also is not subject to Executive Order 13045 (62 FR 19885, April 23, 1997), because it is not economically significant, and it does not make decisions based on environmental health or safety risks. This rule is not subject to Executive Order 13211, “Actions Concerning Regulations That Significantly Affect Energy Supply, Distribution, or Use” (66 FR 28355, May 22, 2001) because it is not a significant regulatory action under Executive Order 12866.

Under RCRA section 3006(b), EPA grants a State's application for authorization as long as the State meets the criteria required by RCRA. It would thus be inconsistent with applicable law for EPA, when it reviews a State authorization application, to require the use of any particular voluntary consensus standard in place of another standard that otherwise satisfies the requirements of RCRA. The requirements being codified are the result of Arkansas' voluntary participation in the EPA's State program authorization process under RCRA Subtitle C. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.). “Burden” is defined at 5 CFR 1320.3(b).

The Congressional Review Act, 5 U.S.C. 801-808, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 272

Environmental Protection, Hazardous waste, Hazardous materials transportation, Incorporation by reference, Intergovernmental relations, Water pollution control, Water supply.

Dated: October 29, 2025.
Walter Mason,
Regional Administrator, Region 6.

For the reasons set forth in the preamble, under the authority at 42 U.S.C. 6912(a), 6926, and 6974(b), the EPA is amending 40 CFR part 272 as follows:

PART 272—APPROVED STATE HAZARDOUS WASTE MANAGEMENT PROGRAMS

1. The authority citation for part 272 continues to read as follows:

Authority: Secs. 2002(a), 3006, and 7004(b) of the Solid Waste Disposal Act, as amended by the Resource Conservation and Recovery Act, as amended, 42 U.S.C. 6912(a), 6926, and 6974(b).

2. Revise § 272.201 to read as follows:

§ 272.201 Arkansas State-Administered program: Final authorization.

(a) History of the State of Arkansas authorization. Pursuant to section 3006(b) of RCRA, 42 U.S.C. 6926(b), the EPA granted Arkansas final authorization for the following elements as submitted to EPA in Arkansas' Base program application for final authorization which was approved by EPA effective on January 25, 1985. Subsequent program revision applications were approved effective on May 29, 1990; November 18, 1991; December 4, 1992; December 21, 1994; June 24, 2002; October 15, 2007; August 27, 2010; October 9, 2012, December 1, 2014, December 30, 2014, March 29, 2016, October 11, 2016, November 13, 2017, and November 23, 2021.

(b) Enforcement authority. The State of Arkansas has primary responsibility for enforcing its hazardous waste management program. However, EPA retains the authority to exercise its inspection and enforcement authorities in accordance with sections 3007, 3008, 3013, 7003 of RCRA, 42 U.S.C. 6927, 6928, 6934, 6973, and any other applicable statutory and regulatory provisions, regardless of whether the State has taken its own actions, as well as in accordance with other statutory and regulatory provisions.

(c) State statutes and regulations. (1) Incorporation by reference. The Arkansas statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. All approved incorporation by reference (IBR) material is available for inspection at the EPA and at the National Archives and Records Administration (NARA). Contact EPA at EPA Region 6, 1201 Elm Street, Suite 500, Dallas, Texas 75270; phone: (214) 665-8533; email: patterson.alima@epa.gov: For information on the availability of this material at NARA, visit www.archives.gov/federal-register/cfr/br-locations or email fr.inspection@nara.gov. The material may be obtained from the Arkansas Department of Environmental Quality (ADEQ) at the Public Outreach Office, ADEQ, 5301 Northshore Drive, North Little Rock, Arkansas 72118-5317; phone: (501) 682-0923; website: http://www.adeq.state.ar.us/regs/default.htm.

(i) EPA-Approved Arkansas Statutory and Regulatory Requirements Applicable to the Hazardous Waste Management Program, dated November, 2021. Only those provisions that have been authorized by EPA and included in the compilation are incorporated by reference (see appendix A to this part).

(ii) [Reserved].

(2) Legal basis. The following provisions provide the legal basis for the State's implementation of the hazardous waste management program, but they are not being incorporated by reference and do not replace Federal authorities:

(i) Arkansas Code of 1987 Annotated (A.C.A.), 2011 Replacement, Title 4, Business and Commercial Law, Chapter 75: Section 4-75-601(4) “Trade Secret”.

(ii) Arkansas Code of 1987 Annotated (A.C.A.), 2011 Replacement, as amended by the 2019 Supplement, Title 8, Environmental Law, Chapter 1: Section 8-1-107.

(iii) Arkansas Hazardous Waste Management Act of 1979, as amended, Arkansas Code of 1987 Annotated (A.C.A.), 2011 Replacement, as amended by the 2019 Supplement (except as noted), Title 8, Environmental Law, Chapter 7, Subchapter 2: Sections 8-7-202, 8-7-204 (except 8-7-204(e)(3)(B)), 8-7-205, 8-7-206, 8-7-207 (2011 Replacement), 8-7-208 through 8-7-210, 8-7-211 (2011 Replacement), 8-7-212 through 8-7-214, 8-7-217, 8-7-218, 8-7-220, 8-7-222, 8-7-224, 8-7-225(b) through 8-7-225(d), and 8-7-227.

(iv) Arkansas Resource Reclamation Act of 1979, as amended, Arkansas Code of 1987 Annotated (A.C.A.), 2011 Replacement, as amended by the 2019 Supplement (except as noted), Title 8, Environmental Law, Chapter 7, Subchapter 3: Sections 8-7-302(3), 8-7-303 (2011 Replacement), and 8-7-308.

(v) Remedial Action Trust Fund Act of 1985, as amended, Arkansas Code of 1987 Annotated (A.C.A.), 2011 Replacement, as amended by the 2019 Supplement, (except as noted) Title 8, Environmental Law, Chapter 7, Subchapter 5: Sections 8-7-503(6) and (7), 8-7-505(3), 8-7-507 (2011 Replacement), 8-7-508, 8-7-511, and 8-7-512.

(vi) Arkansas Freedom of Information Act (FOIA) of 1967, as amended, Arkansas Code of 1987 Annotated (A.C.A.), 2011 Replacement, as amended by the 2019 Supplement (except as noted), Title 25, State Government, Chapter 19: Sections 25-19-103(1) (2011 Replacement), 25-19-105, 25-19-107 (2011 Replacement).

(vii) Arkansas Pollution Control and Ecology (APC&E) Commission, Regulation No. 7, Civil Penalties, July 24, 1992.

(viii) Arkansas Pollution Control and Ecology (APC&E) Commission, Regulation No. 8, Administrative Procedures, February 12, 2009.

(ix) Arkansas Pollution Control and Ecology (APC&E) Commission Rule No. 23, Hazardous Waste Management, as amended August 27, 2020, effective October 2, 2020, Chapter One; Chapter Two, Sections 1, 2, 3(a), 3(b)(3), 4, 260.2(a), (b), and (d), 260.20(c) through (f), 261 Appendix IX, 270.7(h) and (j), 270.10(e)(8), 270.34, and 19; Chapter Three, Sections 21 and 22; and Chapter Five, Section 28.

(3) Related legal provisions. The following statutory and regulatory provisions are broader in scope than the Federal program, are not part of the authorized program, and are not incorporated by reference:

(i) Arkansas Hazardous Waste Management Act, as amended, Arkansas Code of 1987 Annotated (A.C.A.), 2011 Replacement, as amended by the 2019 Supplement, Title 8, Environmental Law, Chapter 7, Subchapter 2: Section 8-7-226.

(ii) Arkansas Pollution Control and Ecology (APC&E) Commission Regulation No. 23, Hazardous Waste Management, as amended August 27, 2020, effective October 2, 2020, Chapter Two, Sections 6, 262.19(a), 263.10(e), 263.13, 264.71(e), and 265.71(e).

(4) Memorandum of Agreement. The Memorandum of Agreement between EPA Region VI and the State of Arkansas, signed by the Executive Director of the Arkansas Department of Environmental Quality (ADEQ) on March 1, 2021, and by the EPA Regional Administrator on June 4, 2021, is referenced as part of the authorized hazardous waste management program under subtitle C of RCRA, 42 U.S.C. 6921 et seq.

(5) Statement of legal authority. “Attorney General's Statement for Final Authorization”, signed by the Attorney General of Arkansas on July 9, 1984 and revisions, supplements, and addenda to that Statement dated September 24, 1987, February 24, 1989, December 11, 1990, May 7, 1992 and by the Independent Legal Counsel on May 10, 1994, February 2, 1996, March 3, 1997, July 31, 1997, December 1, 1997, December 12, 2001, July 27, 2006, December 12, 2010, October 1, 2012, December 7, 2015, and January 26, 2021 are referenced as part of the authorized hazardous waste management program under Subtitle C of RCRA, 42 U.S.C. 6921 et seq.

(6) Program Description. The Program Description and any other materials submitted as part of the original application or as supplements thereto are referenced as part of the authorized hazardous waste management program under subtitle C of RCRA, 42 U.S.C. 6921 et seq.

3. Appendix A to part 272 is amended by revising the listing for “Arkansas” to read as follows:

Appendix A to Part 272—State Requirements

* * * * *

Arkansas

The statutory provisions include:

Arkansas Hazardous Waste Management Act of 1979, as amended, Arkansas Code of 1987 Annotated (A.C.A.), 2011 Replacement, as amended by the 2019 Supplement, Title 8, Environmental Law, Chapter 7, Subchapter 2: Sections 8-7-203, 8-7-215, 8-7-216, 8-7-219, 8-7-221, 8-7-223 and 8-7-225(a).

Arkansas Code of 1987 Annotated (A.C.A.), 2011 Replacement, as amended by the 2019 Supplement, Title 8, Environmental Law, Chapter 10, Subchapter 3: Section 8-10-301(d).

Copies of the Arkansas statutes that are incorporated by reference are available from the Arkansas Department of Environmental Quality at the Public Outreach Office, ADEQ, 5301 Northshore Drive, North Little Rock, Arkansas 72118-5317; phone: (501) 682-0923; website: http://www.adeq.state.ar.us/regs/default.htm.

The regulatory provisions include:

Arkansas Pollution Control and Ecology (APC&E) Commission Rule No. 23, Hazardous Waste Management, as amended August 27, 2020 and effective October 2, 2020, and where indicated, provisions as amended September 25, 2015, effective October 18, 2015.

Chapter Two, Section 3—Amendment and Update of Rule No. 23 (Hazardous Waste Management)—3(b) introductory paragraph; 3(b)(2); and 3(b)(4).

Section 260—Hazardous Waste Management System—General—260.1; 260.3; 260.4, 260.5, 260.10 (except the definition “consolidation”, the phrase “a written permit issued by the Arkansas Highway and Transportation Department authorizing a person to transport hazardous waste (Hazardous Waste Transportation Permit), or” in the definition for “permit”, and the duplicated definition “user of the electronic manifest system”); 260.11; 260.20 (except 260.20(c) through (f)); 260.21; 260.23; 260.30 through 260.34, 260.40 through 260.43.

Section 261—Identification and Listing of Hazardous Waste—261.1; 261.2 (except 261.2(a)(2)(ii)); 261.2(a)(2)(ii) (October 18, 2015), 261.3; 261.4; 261.6 (except 261.6(a)(5)); 261.7 through 261.11; 261.20 through 261.24; 261.30 through 261.33; 261.35; 261.39 through 261.41; 261.140 through 261.143; 261.147 through 261.150; 261.170 through 261.179; 261.190; 261.191; 261.193; 261.194; 261.196 through 261.200; 261.400; 261.410; 261.411; 261.420; 261.1030 through 261.1035; 261.1050 through 261.1064; 261.1080 through 261.1084; 261.1086 through 261.1089; and Appendices I, VII, and VIII.

Section 262—Standards Applicable to Generators of Hazardous Waste—262.1; 262.10 (except 262.10(d)); 262.11; 262.13 through 262.18; 262.19(b) through (d); 262.20; 262.22 through 262.24; 262.27; 262.30 through 262.33; 262.35; 262.40; 262.41 (except 262.41(f)); 262.42; 262.43; 262.70; 262.200 through 262.216; 262.230 through 262.233; 262.250 through 262.256; and 262.260 through 262.265.

Section 263—Standards Applicable to Transporters of Hazardous Waste—263.10 (except 263.10(d) and (e)); 263.11; 263.12; 263.20 (except 263.20(g)(4)); 263.21; 263.22; 263.25; 263.30; and 263.31.

Section 264—Standards for Owners and Operators of Hazardous Waste Treatment, Storage, and Disposal Facilities—264.1; 264.3; 264.4; 264.10; 264.11; 264.12 (except 264.12(a)(2)); 264.13 through 264.19; 264.20(a) through (c); 264.30 through 264.35; 264.37; 264.50 through 264.56; 264.70; 264.71 (except 264.71(a)(3), (d), and (e)); 264.72 through 264.77; 264.90 through 264.101; 264.110 through 264.120; 264.140; 264.141 (except the definition of “captive insurance” at 264.141(f)); 264.142; 264.143 (except the last sentence of 264.143(e)(1)); 264.144; 264.145 (except the last sentence of 264.145(e)(1)); 264.146; 264.147 (except the last sentences of 264.147(a)(1)(ii) and 264.147(b)(1)(ii)); 264.148; 264.151; 264.170 through 264.179; 264.190 through 264.194; 264.195 (except 264.195(e)); 264.195(e) (October 18, 2015); 264.196 through 264.200; 264.220 through 264.223; 264.226 through 264.232; 264.250 through 264.254; 264.256 through 264.259; 264.270 through 264.273; 264.276; 264.278 through 264.283; 264.300 through 264.304; 264.309; 264.310; 264.312 through 264.317; 264.340 through 264.345; 264.347; 264.351; 264.550 through 264.555; 264.570 through 264.575; 264.600 through 264.603; 264.1030 through 264.1036; 264.1050 through 264.1065; 264.1080 through 264.1090; 264.1100 through 264.1102; 264.1200 through.1202; and Appendices I, IV, V, and IX.

Section 265—Interim Status Standards for Owners and Operators of Hazardous Waste Treatment, Storage, and Disposal Facilities—265.1; 265.4; 265.10; 265.11; 265.12 (except 265.12(a)(2)); 265.13 through 265.19; 265.30 through 265.35; 265.37; 265.50 through 265.56; 265.70; 265.71 (except 265.71(a)(3), (d), and (e)); 265.72 through 265.77; 265.90 through 265.94; 265.110 through 265.121; 265.140; 265.141 (except the definition of “captive insurance” at 265.141(f)); 265.142; 265.143 (except the last sentence of 265.143(d)(1)); 265.144 through 265.146; 265.147 (except the last sentences of 265.147(a)(1) and 265.147(b)(1)); 265.148; 265.170 through 265.174; 265.176 through 265.178; 265.190 through 265.200; 265.202; 265.220 through 265.226; 265.228 through 265.231; 265.250 through 265.260; 265.270; 265.272; 265.273; 265.276; 265.278 through 265.282; 265.300 through 265.304; 265.309; 265.310; 265.312 through 265.316; 265.340; 265.341; 265.345; 265.347; 265.351; 265.352; 265.370; 265.373; 265.375; 265.377; 265.381 through 265.383; 265.400 through 265.406; 265.430; 265.440 through 265.445; 265.1030 through 265.1035; 265.1050 through 265.1064; 265.1080 through 265.1090; 265.1100 through 265.1102; 265.1200 through 265.1202; Appendix I; and Appendices III through VI.

Section 266—Standards for the Management of Specific Hazardous Wastes and Specific Types of Hazardous Waste Management Facilities—266.20 through 266.23; 266.70 (except 266.70(b)(3)); 266.80 (except items 6 and 7 in the 266.80(a) table); 266.100 through 266.112; 266.200 through 266.206; 266.210; 266.220; 266.225; 266.230; 266.235; 266.240; 266.245; 266.250; 266.255; 266.260; 266.305; 266.310; 266.315; 266.320; 266.325; 266.330; 266.335; 266.340; 266.345; 266.350; 266.355; 266.360; and Appendices I through XIII.

Section 267—Standards for Owners and Operators of Hazardous Waste Facilities Operating Under a Standardized Permit—267.1 through 267.3; 267.10 through 267.18; 267.30 through 267.36; 267.50 through 267.58; 267.70 through 267.76; 267.90; 267.101; 267.110 through 267.113; 267.115 through 267.117; 267.140 through 267.143; 267.147 through 267.151; 267.170 through 267.177; 267.190 through 267.204; and 267.1100 through 267.1108.

Section 268—Land Disposal Restrictions—268.1; 268.2 through 268.4, 268.7; 268.9; 268.13; 268.14; 268.20, 268.30 through 268.39; 268.40 (except 268.40(e)(1)-(4) and 268.40(i)); 268.41; 268.42 (except 268.42(b)); 268.43; 268.45; 268.46; 268.48 through 268.50; and Appendices III, IV, VI through IX, and XI.

Section 270—Administered Permit Programs: The Hazardous Waste Permit Program—270.1 through 270.6; 270.7 (except 270.7(h) and (j)); 270.10 (except 270.10(e)(8)); 270.11 through 270.33; 270.40 through 270.43; 270.50; 270.51; 270.60 through 270.68; 270.70 through 270.73; 270.79; 270.80; 270.85; 270.90; 270.95; 270.100; 270.105; 270.110; 270.115; 270.120; 270.125; 270.130; 270.135; 270.140; 270.145; 270.150; 270.155; 270.160; 270.165; 270.170; 270.175; 270.180; 270.185; 270.190; 270.195; 270.200; 270.205; 270.210; 270.215; 270.220; 270.225; 270.230; 270.235; 270.250; 270.255; 270.260; 270.270; 270.275; 270.280; 270.290; 270.300; 279.305; 270.310; 270.315; and 270.320.

Section 273—Standards for Universal Waste Management—273.1 through 273.4; 273.5 (except 273.5(b)(3)); 273.6; 273.8 through 273.20; 273.30 through 273.40; 273.50 through 273.56; 273.60 through 273.62; 273.70 (except 273.70(d)); 273.80; and 273.81.

Section 279—Standards for the Management of Used Oil—279.1; 279.10; 279.11; 279.12; 279.20 through 279.24; 279.30 through 279.32; 279.40 through 279.47; 279.50 through 279.67; 279.70 through 279.75; 279.80; 279.81; and 279.82(a).

Copies of the Arkansas regulations that are incorporated by reference are available from the Arkansas Department of Environmental Quality website at the Public Outreach Office, ADEQ, 5301 Northshore Drive, North Little Rock, Arkansas 72118-5317; phone: (501) 682-0923; website: http://www.adeq.state.ar.us/regs/default.htm.

* * * * *

[FR Doc. 2025-20237 Filed 11-17-25; 8:45 am]

BILLING CODE 6560-50-P